Executive Order 13861 of March 5, 2019

National Roadmap to Empower Veterans and End Suicide

By the authority vested in me as President by the Constitution and the laws of the United States of America, it is hereby ordered as follows:

Section 1. Purpose. On average, 20 service members and veterans die by suicide each day. As a Nation, we must do better in fulfilling our solemn obligation to care for all those who have served our country. I am therefore issuing a national call to action to improve the quality of life of our Nation's veterans—many of whom have risked their lives to protect our freedom while deployed, often multiple times, to areas of prolonged conflict.

Answering this call to action requires an aspirational, innovative, all-hands-on-deck approach to public health—not government as usual. The Federal Government alone cannot achieve effective or lasting reductions in the veteran suicide rate. This is not because of a lack of resources. It is, in fact, due substantially to a lack of coordination: Nearly 70 percent of veterans who end their lives by suicide have not recently received healthcare services from the Department of Veterans Affairs.

To reduce the veteran suicide rate, the Federal Government must work side-by-side with partners from State, local, territorial, and tribal governments—as well as private and non-profit entities—to provide our veterans with the services they need. At the same time, the Federal Government must advance our understanding of the underlying causal factors of veteran suicide. Our collective efforts must begin with the common understanding that suicide is preventable and prevention requires more than intervention at the point of crisis. The Federal Government, academia, employers, members of faith-based and other community, non-governmental, and non-profit organizations, first responders, and the veteran community must all work together to foster cultures in which veterans and their families can thrive.

The United States must develop a comprehensive national public health roadmap for preventing suicide among our Nation's veterans, with the aspiration of ending veteran suicide once and for all. This roadmap must be holistic and encompass the overall health and well-being of our Nation's veterans.

Sec. 2. Policy. It is the policy of the United States to end veteran suicide through the development of a comprehensive plan to empower veterans and end suicide through coordinated suicide prevention efforts, prioritized research activities, and strengthened collaboration across the public and private sectors. This plan shall be known as the President's Roadmap to Empower Veterans and End a National Tragedy of Suicide or PREVENTS (the “roadmap”).

Sec. 3. Establishment of the Veteran Wellness, Empowerment, and Suicide Prevention Task Force. (a) There is hereby established the Veteran Wellness, Empowerment, and Suicide Prevention Task Force (Task Force), co-chaired by the Secretary of Veterans Affairs and the Assistant to the President for Domestic Policy (Co-Chairs).

(b) In addition to the Co-Chairs, the Task Force shall include the following officials, or their designees:

(i) the Secretary of Defense;

(ii) the Secretary of Labor;

(iii) the Secretary of Health and Human Services;

(iv) the Secretary of Housing and Urban Development;

(v) the Secretary of Energy;

(vi) the Secretary of Education;

(vii) the Secretary of Homeland Security;

(viii) the Director of the Office of Management and Budget;

(iv) the Assistant to the President for National Security Affairs; and

(x) the Director of the Office of Science and Technology Policy.

Sec. 4. Additional Invitees. As appropriate and consistent with applicable law, the Co-Chairs may, from time to time, invite the heads of other executive departments and agencies, or other senior officials in the White House Office, to attend meetings of the Task Force.

Sec. 5. Development of the President's Roadmap to Empower Veterans and End a National Tragedy of Suicide. (a) Within 365 days of the date of this order, the Task Force shall develop and submit to the President the roadmap to empower veterans to pursue an improved quality of life, prevent suicide, prioritize related research activities, and strengthen collaboration across the public and private sectors. The roadmap shall analyze opportunities to better harmonize existing efforts within Federal, State, local, territorial, and tribal governments, and non-governmental entities. The roadmap shall include:

(i) the community integration and collaboration proposal described in section 6 of this order, which will better coordinate and align existing efforts and services for veterans and promote their overall quality of life;

(ii) the research strategy described in section 7 of this order, which will advance my Administration's efforts to improve quality of life and reduce suicide among veterans by better integrating existing efforts of governmental and non-governmental entities and by improving the development and use of metrics to quantify progress of these efforts; and

(iii) an implementation strategy that includes a description of policy changes and resources that may be required.

(b) In developing the roadmap, the Co-Chairs shall, at their discretion and in consultation with the other members of the Task Force, engage with:

(i) State, local, territorial, and tribal officials;

(ii) private healthcare and hospital systems, healthcare providers and clinicians, academic affiliates, educational institutions, and faith-based and other community, non-governmental, and non-profit organizations; and

(iii) veteran and military service organizations.

Sec. 6. State and Local Action. Within 365 days of the date of this order, the Task Force shall submit a legislative proposal to the President through the Director of the Office of Management and Budget that establishes a program for making grants to local communities to enable them to increase their capacity to collaborate with each other to integrate service delivery to veterans and to coordinate resources for veterans. The legislative proposal shall promote the development of milestones and metrics in pursuit of:

(a) community integration that brings together veteran-serving organizations to provide veterans with better coordinated and streamlined access to a multitude of services and supports, including those related to employment, health, housing, benefits, recreation, education, and social connection; and

(b) promoting a stronger sense of belonging and purpose among veterans by connecting them with each other, with civilians, and with their communities through a range of activities, including physical activity, community service, and disaster response efforts.

Sec. 7. Development of a National Research Strategy. (a) Within 365 days of the date of this order, the Task Force shall, in coordination with the Director of the Office of Science and Technology Policy, develop a national research strategy to improve the coordination, monitoring, benchmarking, and execution of public- and private-sector research related to the factors that contribute to veteran suicide.

(b) As the Task Force develops this national research strategy, the Co-Chairs may, at their discretion and in consultation with the other members of the Task Force, engage with the persons and entities described in section 5(b)(i) through (iii) of this order, as well as with Federal Government entities.

(c) The national research strategy shall include milestones and metrics designed to:

(i) improve our ability to identify individual veterans and groups of veterans at greater risk of suicide;

(ii) develop and improve individual interventions that increase overall veteran quality of life and decrease the veteran suicide rate;

(iii) develop strategies to better ensure the latest research discoveries are translated into practical applications and implemented quickly;

(iv) establish relevant data-sharing protocols across Federal partners that also align with the community collaboration outlined in section 6 of this order;

(v) draw upon technology to capture and use health data from non-clinical settings to advance behavioral and mental health research to the extent practicable;

(vi) improve coordination among research efforts, prevent unnecessarily duplicative efforts, identify barriers to or gaps in research, and facilitate opportunities for improved consolidation, integration, and alignment; and

(vii) develop a public-private partnership model to foster collaborative, innovative, and effective research that accelerates these efforts.

(d) The national research strategy shall not be limited to clinical or healthcare interventions, but should approach the problem of veteran suicide in a holistic manner to improve overall veteran quality of life.

Sec. 8. Administrative Provisions. (a) The Department of Veterans Affairs shall provide funding and administrative support as may be necessary for the performance and functions of the Task Force.

(b) The Secretary of Veterans Affairs, in consultation with the Assistant to the President for Domestic Policy, shall designate an official of the Department of Veteran Affairs to serve as Executive Director of the Task Force, responsible for coordinating its day-to-day functions. As necessary and appropriate, the Co-Chairs may afford the other members of the Task Force an opportunity to provide input into the decision of whom to designate as Executive Director.

Sec. 9. Termination of the Task Force. After submission of the roadmap described in section 5 of this order, the Task Force established in section 3 of this order shall monitor implementation of the roadmap. The Task Force shall terminate 2 years following the submission to the President of the roadmap.

Sec. 10. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 5, 2019.

[FR Doc. 2019-04437

Filed 3-7-19; 11:15 am]

Billing code 3295-F9-P